FEDERAL RESERVE SYSTEM

Notice of Proposals To Engage in or To Acquire Companies Engaged in Permissible Nonbanking Activities; Correction

This notice corrects a notice (FR Doc. 2014-30815) published on pages 226 and 227 of the issue for Monday, January 5, 2015.

Under the Federal Reserve Bank of Boston heading, the entry for New Hampshire Mutual Bancorp, Manchester, New Hampshire, is revised to read as follows:

A. Federal Reserve Bank of Boston (Richard Walker, Community Affairs Officer) 600 Atlantic Avenue, Boston, Massachusetts 02210-2204:

1. New Hampshire Mutual Bancorp, Manchester, New Hampshire; to establish MillRiver Trust Company, and transfer the existing trust business from New Hampshire Mutual Bancorp's subsidiary bank, Merrimack County Savings Bank, both in Concord, New Hampshire, to MillRiver Trust Company, pursuant to sections 225.28(b)(5), (b)(6), (b)(6)(ii), (b)(6)(v), (b)(6)(vi), (b)(7)(i), (b)(7)(ii) and (b)(11)(iii)(A).

Board of Governors of the Federal Reserve System, December 30, 2014.

Comments on this application must be received by January 20, 2015.

Board of Governors of the Federal Reserve System, January 5 2015.
Michael J. Lewandowski,
Associate Secretary of the Board.

[FR Doc. 2015-00065 Filed 1-7-15; 8:45 am]

BILLING CODE 6210-01-P